SMALL BUSINESS ADMINISTRATION

[Disaster Declaration #11272]

Iowa Disaster Number IA-00016

AGENCY: U.S. Small Business Administration.

ACTION: Amendment 3.

SUMMARY: This is an amendment of the Presidential declaration of a major disaster for Public Assistance Only for The State of Iowa (FEMA-1763-DR), Dated 05/27/2008.

Incident: Severe Storms, Tornadoes, and Flooding.

Incident Period: 05/25/2008 and continuing.

Effective Date: 06/24/2008.

Physical Loan Application Deadline Date: 07/28/2008.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, Suite 6050, Washington, DC 20416.

SUPPLEMENTARY INFORMATION: The notice of the President's major disaster declaration for Private Non-Profit organizations in the State of IOWA, dated 05/27/2008, is hereby amended to include the following areas as adversely affected by the disaster.

Primary Counties: Carroll, Hardin, Harrison, Jackson, Jasper, Keokuk, Louisa, Mills, Monona, Polk, Scott, Washington.

All other information in the original declaration remains unchanged.

(Catalog of Federal Domestic Assistance Number 59008)

Herbert L. Mitchell,
Associate Administrator for Disaster Assistance.

[FR Doc. E8-15295 Filed 7-3-08; 8:45 am]

BILLING CODE 8025-01-P